NATIONAL SCIENCE FOUNDATION

Advisory Committee for Mathematical and Physical Sciences; Notice of Meeting

In accordance with the Federal Advisory Committee Act (Pub. L. 92-463, as amended), the National Science Foundation announces the following meeting:

Name: Advisory Committee for Mathematical and Physical Sciences (#66) (Virtual).

Date/Time: July 21, 2016; 1:30 p.m. to 3:30 p.m.

Place: National Science Foundation, 4201 Wilson Blvd., Arlington, VA 22230. Virtual Meeting.

Join through: https://nsf.webex.com/mw3100/mywebex/default.do?service=1&siteurl=nsf&nomenu=true&main_url=%2Fmc3100%2Fe.do%3Fsiteurl%3Dnsf%26AT%3DMI%26EventID%3D446052942%26UID%3D0%26Host%3DQUhTSwAAAAIa7Z3IWDC3PczHy6EYVXAoaGxla959d8CrKHj81feoXVtIhaskft_PE-740G6YRrSx5X9K35L2m7JlzX_hmGwI0%26FrameSet%3D2%26MTID%3Dmae8a8a97ec989c2dc13ec21465039142.

Type of Meeting: Open.

Contact Person: Eduardo Misawa, National Science Foundation, 4201 Wilson Boulevard, Suite 505, Arlington, Virginia 22230; Telephone 703-292-8300.

Purpose of Meeting: To provide advice, recommendations and counsel on major goals and policies pertaining to mathematical and physical sciences programs and activities.

Agenda

Thursday, July 21, 2016

1:30-1:45 p.m.: Meeting opening, FACA briefing and approval of April meeting minutes

Juan de Pablo, MPS Advisory Committee Chair

Fleming Crim, Assistant Director, Directorate for Mathematical and Physical Sciences

Eduardo Misawa, Staff Associate, MPS Office of the Assistant Director

1:45-2:45 p.m.: Division of Chemistry Committee of Visitor (COV)'s report

Sharon Hammes-Schiffer, COV Chair

Juan de Pablo, MPS Advisory Committee Chair

2:45-3:30 p.m.: New Business and Discussions

3:30 p.m.: Adjourn

Dated: June 27, 2016.
Crystal Robinson,
Committee Management Officer.

[FR Doc. 2016-15489 Filed 6-29-16; 8:45 am]

BILLING CODE 7555-01-P